NUCLEAR REGULATORY COMMISSION

[NRC-2012-0121, NRC-2011-0265, NRC-2013-0104, NRC-2013-0052, NRC-2014-0068, NRC-2014-0057 and NRC-2013-0186]

Issuance of Updates to NUREG-1556 (Consolidated Guidance About Materials Licenses), Volumes 1 (Portable Gauges), 2 (Industrial Radiography), 3 (Sealed Sources and Devices), 4 (Fixed Gauges), 10 (Master Material Licenses), 15 (Changes of Control and Bankruptcy), and 19 (Reciprocity)

AGENCY: Nuclear Regulatory Commission.

ACTION: NUREG; issuance.

SUMMARY: The U.S. Nuclear Regulatory Commission (NRC) has issued Revision 2 to NUREG-1556, Volumes 1 and 3 and Revision 1 to NUREG-1556, Volumes 2, 4, 10, 15, and 19, revising licensing guidance for various materials licenses. These documents have been updated to include information on updated regulatory requirements, safety culture, security of radioactive materials, protection of sensitive information, and changes in regulatory policies and practices. The documents are intended for use by applicants, licensees, and the NRC staff.

DATES: Volume 3 was published in September 2015. Volume 2 was published in February 2016. Volumes 1, 10, 15, and 19 were published in June 2016. Volume 4 was published in July 2016.

ADDRESSES: Please refer to Docket ID numbers [NRC-2012-0121, NRC-2013-0104, NRC-2011-0265, NRC-2013-0052, NRC-2014-0068, NRC-2014-0057 and NRC-2013-0186] when contacting the NRC about the availability of information regarding this document. You may obtain publicly-available information related to this document using any of the following methods:

• Federal Rulemaking Web site: Go to http://www.regulations.gov and search for Docket ID numbers [NRC-2012-0121, NRC-2013-0104, NRC-2011-0265, NRC-2013-0052, NRC-2014-0068, NRC-2014-0057 and NRC-2013-0186]. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

These NUREG-1556 volumes are also available on the NRC's public Web site on the: “Consolidated Guidance About Materials Licenses (NUREG-1556)” page at http://www.nrc.gov/reading-rm/doc-collections/nuregs/staff/sr1556/.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Discussion

The NRC issued revisions to these NUREG volumes to provide guidance to existing materials licensees and to applicants preparing a license application for various materials licenses. These NUREG volumes also provide the NRC staff with criteria for evaluating license applications. The purpose of this notice is to notify the public that the NUREG-1556 volumes listed in this FRN were issued as Final Reports.

II. Additional Information

The NRC published a notice of the availability of the Draft Report for Comment version of NUREG-1556, Volume 1, Revision 2 in the Federal Register on May 30, 2012 (77 FR 31894) for a 30-day public comment period. The public comment period closed on June 29, 2012. Public comments on Volume 1, Revision 2 and the staff responses to the public comments are available under ADAMS Accession No. ML15069A043.

The NRC published a notice of the availability of the Draft Report for Comment version of NUREG-1556, Volume 2, Revision 1 in the Federal Register on November 21, 2011 (76 FR 72005) for a 53-day public comment period. The public comment period closed on January 13, 2012. Public comments on Volume 2, Revision 1 and the staff responses to the public comments are available under ADAMS Accession No. ML15033A308.

The NRC published a notice of the availability of the Draft Report for Comment version of NUREG-1556, Volume 3, Revision 2 in the Federal Register on June 4, 2013 (78 FR 33447) for a 31-day public comment period. The public comment period closed on July 5, 2013. Public comments on Volume 3, Revision 2 and the staff responses to the public comments are available under ADAMS Accession No. ML15055A343.

The NRC published a notice of the availability of the Draft Report for Comment version of NUREG-1556, Volume 4, Revision 1 in the Federal Register on March 25, 2013 (78 FR 17943) for a 30-day public comment period. The public comment period closed on April 24, 2013. Public comments on Volume 4, Revision 1 and the staff responses to the public comments are available under ADAMS Accession No. ML15055A205.

The NRC published a notice of the availability of the Draft Report for Comment version of NUREG-1556, Volume 10, Revision 1 in the Federal Register on April 25, 2014 (79 FR 23018) for a 32-day public comment period. The public comment period closed on May 27, 2014. Public comments on Volume 10, Revision 1 and the staff responses to the public comments are available under ADAMS Accession No. ML15159B271.

The NRC published a notice of the availability of the Draft Report for Comment version of NUREG-1556, Volume 15, Revision 1 in the Federal Register on March 26, 2014 (79 FR 16833) for a 30-day public comment period. The public comment period closed on April 25, 2014. Public comments on Volume 15, Revision 1 and the staff responses to the public comments are available under ADAMS Accession No. ML15224B599.

The NRC published a notice of the availability of the Draft Report for Comment version of NUREG-1556, Volume 19, Revision 1 in the Federal Register on August 30, 2013 (78 FR 53792) for a 31-day public comment period. The public comment period closed on September 30, 2013. Public comments on Volume 19, Revision 1 and the staff responses to the public comments are available under ADAMS Accession No. ML16056A319.

III. Congressional Review Act

These NUREG volumes are rules as defined in the Congressional Review Act (5 U.S.C. 801-808). However, the Office of Management and Budget has not found these to be major rules as defined in the Congressional Review Act.

IV. Availability of Documents

The documents identified in the following table are available to interested persons through one or more of the following methods, as indicated.

Document title | ADAMS Accession No.
NUREG-1556, Volume 1, Revision 2, “Consolidated Guidance About Materials Licenses: Program-Specific Guidance About Portable Gauge Licenses” | ML16175A375
NUREG-1556, Volume 2, Revision 1, “Consolidated Guidance About Materials Licenses: Program-Specific Guidance About Industrial Radiography Licenses” | ML16062A091
NUREG-1556, Volume 3, Revision 2, “Consolidated Guidance About Materials Licenses: Applications for Sealed Source and Device Evaluation and Registration” | ML15246A317
NUREG-1556, Volume 4, Revision 1, “Consolidated Guidance About Materials Licenses: Program-Specific Guidance About Fixed Gauge Licenses” | ML16188A048
NUREG-1556, Volume 10, Revision 1, “Consolidated Guidance About Materials Licenses: Program-Specific Guidance About Master Materials Licenses” | ML16181A111
NUREG-1556, Volume 15, Revision 1, “Consolidated Guidance About Materials Licenses: Guidance About Changes of Control and About Bankruptcy Involving Byproduct, Source, and Special Nuclear Materials Licenses” | ML16181A003
NUREG-1556, Volume 19, Revision 1, “Consolidated Guidance About Materials Licenses: Guidance for Agreement State Licensees About NRC Form 241 “Report of Proposed Activities in Non-Agreement States, Areas of Exclusive Federal Jurisdiction, or Offshore Waters” and Guidance for NRC Licensees Proposing to Work in Agreement State Jurisdiction (Reciprocity)” | ML16175A107

Dated at Rockville, Maryland, this 9th day of September 2016.
For the U.S. Nuclear Regulatory Commission
Pamela J. Henderson,
Deputy Director, Division of Material Safety, State, Tribal and Rulemaking Programs, Office of Nuclear Material Safety and Safeguards.

[FR Doc. 2016-22482 Filed 9-16-16; 8:45 am]

BILLING CODE 7590-01-P